DEPARTMENT OF AGRICULTURE

Forest Service

Notice of Agreement Under the Comprehensive Environmental Response, Compensation, and Liability Act (CERCLA)

AGENCY: Forest Service, USDA.

ACTION: Notice of proposed settlement agreement; request for public comment.

SUMMARY: In accordance with Section 122(i) of the Comprehensive Environmental Response, Compensation, and Liability Act (“CERCLA”), 42 U.S.C. 9622(i), notice is hereby given of a proposed administrative settlement between the United States, on behalf of the U.S. Department of Agriculture, Forest Service, and Opal Creek Ancient Forest Center (OCAFC) and Gannett Co., Inc. on behalf of Shiny Rock Mining Corporation (Shiny Rock) for the recovery of costs incurred by the United States in responding to the release or threatened release of hazardous substances at and from the Ruth and Morning Star Mines Site (Site), located in the Opal Creek Scenic Recreation Area on the Willamette National Forest, Marion County, Oregon. The Forest Service has incurred costs investigating conditions, analyzing cleanup alternatives, and overseeing OCAFC's and Shiny Rock's work at the Site. Under the proposed settlement OCAFC and Shiny Rock will relocate and stabilize contaminated material at the Site. OCAFC and Shiny Rock will bear the costs for relocating and stabilizing the contaminated material, including the Forest Service's costs for overseeing that work. OCAFC and Shiny Rock will pay a liquidated amount of $4,650, which represents an estimated 50% of the anticipated costs for planned monitoring and maintenance following the relocation and stabilization of the contaminated material. OCAFC and Shiny Rock will not otherwise be responsible for future CERCLA costs at the Site associated with current contamination at the Site. OCAFC, Shiny Rock, and the United States retain the right to recover costs at the Site from persons not parties to the settlement.

DATES: Comments must be received, in writing, on or before March 21, 2014.

ADDRESSES: Written comments on this proposed settlement agreement may be sent to: James Alexander, USDA Office of General Counsel, 1220 SW Third Avenue, Suite 310, Portland, Oregon 97204-2825, and should refer to the Ruth and Morning Star Mines Site, Marion County, Oregon. A copy of the proposed settlement agreement may be obtained by mail or email from James Alexander, USDA Office of General Counsel, 1220 SW Third Avenue, Suite 310, Portland, Oregon 97204-2825.

FOR FURTHER INFORMATION CONTACT: James Alexander, USDA Office of General Counsel, 1220 SW Third Avenue, Suite 310, Portland, Oregon 97204-2825.

Dated: February 11, 2014.
Maureen T. Hyzer,
Deputy Regional Forester.

[FR Doc. 2014-03553 Filed 2-18-14; 8:45 am]

BILLING CODE 3410-11-P